DEPARTMENT OF AGRICULTURE

Food Safety and Inspection Service

[Docket No. FSIS-2016-0037]

National Advisory Committee on Meat and Poultry Inspection; Nominations for Membership

AGENCY: Food Safety and Inspection Service, USDA.

ACTION: Notice soliciting nominations for membership.

SUMMARY: The U.S. Department of Agriculture (USDA) is soliciting nominations for membership for the National Advisory Committee on Meat and Poultry Inspection (NACMPI). The full Committee consists of 20 members, and each person selected is expected to serve a 2-year term. The current Committee consists of 17 members, with 4 members retiring. USDA is soliciting nominations for seven available positions.

DATES: Nominations, including a cover letter to the Secretary, the nominee's typed resume or curriculum vitae, and a completed USDA Advisory Committee Membership Background Information form AD-755, must be received within December 23, 2016. Self-nominations are welcome.

FOR FURTHER INFORMATION CONTACT: Natasha Williams, Program Specialist, Designated Federal Officer, Office of Outreach, Employee Education and Training, Outreach and Partnership Staff, Food Safety and Inspection Service, Telephone: 202-690-6531, Fax: (202) 690-6519, Email: Natasha.Williams@fsis.usda.gov, regarding specific questions about the Committee or this solicitation. General information about the Committee can also be found at: http://www.fsis.usda.gov/nacmpi.

SUPPLEMENTARY INFORMATION:

Background

In accordance with the Federal Advisory Committee Act, 5 U.S.C. app. 2, USDA is seeking nominees for membership on the National Advisory Committee on Meat and Poultry Inspection (NACMPI). The Committee provides advice and recommendations to the Secretary on meat and poultry inspection programs, pursuant to sections 7(c), 24, 301(a)(3), and 301(c) of the Federal Meat Inspection Act (21 U.S.C. 607(c), 624, 645, 661(a)(3), and 661(c)) and to sections 5(a)(3), 5(c), 8(b), and 11(e) of the Poultry Products Inspection Act (21 U.S.C. 454(a)(3), 454(c), 457(b), and 460(e)). Nominations for membership are being sought from persons representing industry; academia; State and local government officials; public health organizations; and consumers and consumer organizations. NACMPI is seeking members with knowledge and interest in meat and poultry food safety and other FSIS policies. Appointments to the Committee will be made by the Secretary of Agriculture.

To ensure that recommendations of the Committee take into account the needs of the diverse groups served by the Department, membership will include, to the extent practicable, individuals with demonstrated ability to represent minorities, women, and persons with disabilities. It is anticipated that the Committee will meet at least once annually.

Please note that federally registered lobbyists cannot be considered for USDA advisory committee membership. Members can only serve on one advisory committee at a time. All nominees will undergo a USDA background check.

How To Apply

To receive consideration for service on the NACMPI, a nominee must submit a resume and the USDA Advisory Committee Membership Background Information form AD-755. The resume or curriculum vitae must be limited to five one-sided pages and should include nominee's educational background and expertise. For submissions received that are more than five one-sided pages in length, only the first five pages will be reviewed. The USDA Advisory Committee Membership Background Information form AD-755 is available online at http://www.fsis.usda.gov/wps/portal/fsis/forms. The AD-755 will only be considered if it is complete.

Nomination packages should be accompanied by a resume and AD-755 form and can be sent by mail to: Natasha Williams, Designated Federal Officer; Office of Outreach, Employee Education and Training, Food Safety and Inspection Service, U.S. Department of Agriculture; 1400 Independence Avenue SW., Mail Stop 3778, Patriots Plaza III, Room 9-265A, Washington, DC 20250, Attention: National Advisory Committee on Meat and Poultry Inspection.

Regarding Nominees Who Are Selected

All members who are associated with colleges and universities will be designated as Special Government Employees (SGE) and must complete the Office of Government (OGE) 450 Confidential Financial Disclosure Report electronically through the USDA online system before rendering any advice or before their first meeting. SGEs are required to update financial forms yearly. An invitation to fill out the 450 form will be sent via email before the NACMPI meeting.

All members will be reviewed for conflict of interest pursuant to 18 U.S.C. 208 in relation to specific NACMPI work charges. Advisory Committee members serve a two-year term, renewable for two consecutive terms.

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How to File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410.

Fax: (202) 690-7442.

Email: program.intake@usda.gov.

Persons with disabilities who require alternative means for communication (Braille, large print, audiotape, etc.), should contact USDA's TARGET Center at (202) 720-2600 (voice and TDD).

Alfred V. Almanza,
Acting Administrator.

[FR Doc. 2016-28237 Filed 11-22-16; 8:45 am]

BILLING CODE 3410-DM-P